DEPARTMENT OF TRANSPORTATION

Pipeline and Hazardous Materials Safety Administration

[Docket No. PHMSA-2023-0056]

Pipeline Safety: Pipeline Safety Research and Development Forum

AGENCY: Pipeline and Hazardous Materials Safety Administration (PHMSA), Department of Transportation (DOT).

ACTION: Notice of public meeting and webcast.

SUMMARY: This notice announces a public forum on Research and Development for pipeline safety titled “Pipeline Safety Research and Development Forum 2023.” PHMSA periodically holds this forum to help generate a national research agenda that identifies technical challenges and fosters solutions to improve pipeline safety and protect the environment.

DATES: The forum will be held October 31-November 1, 2023, from 8:00 a.m. to 4:30 p.m. On-site registration will begin at 7:00 a.m. on both days. Online preregistration will open on Tuesday, August 8, 2023, and close on Friday, October 20, 2023. Individuals requiring accommodations, such as sign language interpretation or other ancillary aids, should notify Andrea Ceartin, Engineering & Research Division, by phone at 406-577-6818, or email andrea.ceartin@dot.gov no later than October 4, 2023. For additional information, see the ADDRESSES section of this notice.

ADDRESSES: This public meeting and forum will be held in person at the Westin Crystal City Reagan National Airport, 1800 Richmond Highway, Arlington, Virginia 22202, with a webcast to include the opening technical presentations. Once finalized, the hotel reservation link, meeting agenda, and instructions on how to attend will be published on the public meeting registration page at https://primis.phmsa.dot.gov/meetings/MtgHome.mtg?mtg=166.

Presentations: Presentations will be available on the meeting website and at https://regulations.gov, Docket Number PHMSA-2023-0056, no later than 30 days following the meeting.

Submitting Comments: You may submit comments, identified by Docket Number. PHMSA-2023-0056, by any of the following methods:

• Website: The following website, http://www.regulations.gov, allows the public to enter comments on any Federal Register notice issued by any agency. Follow the online instructions for submitting comments.

• Mail: Docket Management System, U.S. Department of Transportation (DOT), 1200 New Jersey Avenue SE, West Building Ground Floor, Room W12-140, Washington, DC 20590-0001.

• Hand Delivery: DOT Docket Management System, located at 1200 New Jersey Avenue SE, West Building Ground Floor, Room W12-140, between 9:00 a.m. and 5:00 p.m. EST, Monday through Friday, except federal holidays.

• Fax: 202-493-2251. DOT Docket Management Facility. Confirmation notices for faxed comments will not be issued.

• Instructions: Identify Docket No. PHMSA-2023-0056 at the beginning of your comments. If you submit your comments by mail, please submit two copies. If you wish to receive confirmation that PHMSA received your comments, you must include a self-addressed stamped postcard. Internet users may submit comments at http://www.regulations.gov.

• Note: All comments received are posted without edits to http://www.regulations.gov, including any personal information provided. Please see the Privacy Act heading below.

• Confidential Business Information: Confidential Business Information (CBI) is commercial or financial information that is both customarily and actually treated as private by its owner. Under the Freedom of Information Act (5 U.S.C. 552), CBI is exempt from public disclosure. If your comments in response to this notice contain commercial or financial information that is customarily treated as private, that you actually treat as private, and is relevant or responsive to this notice, it is important that you clearly designate the submitted comments as CBI. Pursuant to 49 Code of Federal Regulations (CFR) 190.343, you may ask PHMSA to provide confidential treatment to information you give the agency by taking the following steps: (1) mark each page of the original document submission containing CBI as “Confidential;” (2) send PHMSA a copy of the original document with the CBI deleted along with the original, unaltered document; and (3) explain why the information you are submitting is CBI. Submissions containing CBI should be sent to Mary McDaniel, 1200 New Jersey Avenue SE, DOT: PHMSA—PHP-40, Washington, DC 20590-0001. Any commentary PHMSA receives that is not specifically designated as CBI will be placed in the public docket.

• Privacy Act: DOT may solicit comments from the public regarding certain general notices. DOT posts these comments, without edit, including any personal information the commenter provides, to https://www.regulations.gov, as described in the system of records notice (DOT/ALL-14 FDMS), which can be reviewed at https://www.transportation.gov/privacy.

• Docket: For access to the docket to read background documents or comments received, go to http://www.regulations.gov. Follow the online instructions for accessing the dockets. Alternatively, you may review the documents in person at the street address listed above.

FOR FURTHER INFORMATION CONTACT: Mary L. McDaniel, Acting Director of the Engineering and Research Division, by phone at 713-272-2847 or email at mary.mcdaniel@dot.gov.

SUPPLEMENTARY INFORMATION: The mission of PHMSA is to protect people and the environment by advancing the safe transportation of energy products and other hazardous materials that are essential to our daily lives.

Public Participation: The meeting and forum will be open to the public. Members of the public who wish to attend must register on the meeting website, including their names and organizational affiliation. PHMSA is committed to providing all participants with equal access to these meetings. If you need disability accommodations, please contact Janice Morgan by email at janice.morgan@dot.gov.

PHMSA is not always able to publish a notice in the Federal Register quickly enough to provide timely notification of last-minute changes that impact scheduled meetings. Therefore, individuals should check the meeting website listed in the ADDRESSES section of this notice or contact Janice Morgan by phone at 202-815-4705 or email at janice.morgan@dot.gov regarding any possible changes.

PHMSA invites public participation and public comment on the topics addressed in this public meeting and forum. Please review the ADDRESSES section of this notice for information on how to submit written comments.

Agenda Summary: The PHMSA Pipeline Safety R&D Forum is held to generate a national research agenda that identifies technical challenges; foster solutions to improve pipeline safety and protect the environment; and provide a venue for information exchange among key stakeholders, including the public, states, tribal governments, other federal agencies, industry, and international colleagues.

Issued in Washington, DC, on August 2, 2023, under authority delegated in 49 CFR 1.97.
Alan K. Mayberry,
Associate Administrator for Pipeline Safety.

[FR Doc. 2023-16802 Filed 8-4-23; 8:45 am]

BILLING CODE 4910-60-P